Proclamation 7732 of November 7, 2003

World Freedom Day, 2003

By the President of the United States of America

A Proclamation

Fourteen years ago, freedom-loving people tore down the Berlin Wall and began to set a nation free from Communist oppression. On World Freedom Day, the United States joins with other countries in commemorating that historic day. The United States is committed to liberty, freedom, and the universal struggle for human rights. We strive to advance peace and democracy and to safeguard these ideals around the world.

After dividing families, friends, and communities for 28 years, the dismantling of the Berlin Wall reunited Germany and helped spread freedom across Central and Eastern Europe. With free elections and the spread of democratic values, these countries won their liberty, and their people became free. These democracies today contribute to a strong Europe, and the United States values their friendship and their partnership.

On World Freedom Day, Americans express gratitude for our freedom and dedicate ourselves to upholding the ideals of democracy. Today, we are working with other nations to bring freedom to people around the world. American and coalition forces are sacrificing to bring peace, security, and liberty to Iraq, Afghanistan, and elsewhere. This is a mission for all who believe in democracy, tolerance, and freedom.

NOW, THEREFORE, I, GEORGE W. BUSH, President of the United States of America, by virtue of the authority vested in me by the Constitution and laws of the United States, do hereby proclaim November 9, 2003, as World Freedom Day. I call upon the people of the United States to observe this day with appropriate ceremonies and activities and to affirm their dedication to freedom and democracy for all.

IN WITNESS WHEREOF, I have hereunto set my hand this seventh day of November, in the year of our Lord two thousand three, and of the Independence of the United States of America the two hundred and twenty-eighth.

B

[FR Doc. 03-28584

Filed 11-12-03; 8:45 am]

Billing code 3195-01-P